DEPARTMENT OF HEALTH AND HUMAN SERVICES

Public Health Service

42 CFR Chapter I

Centers for Medicare & Medicaid Services

42 CFR Chapter IV

Office of Inspector General—Health Care

42 CFR Chapter V

Office of the Secretary

45 CFR Subtitle A

Office of Family Assistance (Assistance Programs),

Administration for Children and Families

45 CFR Chapter II

Office of Child Support Enforcement

45 CFR Chapter III

[CMS-9010-FC]

RIN 0938-AL02

Medicare and Medicaid Programs; Change of Agency Name: Technical Amendments

AGENCY: Centers for Medicare & Medicaid Services (CMS), HHS

ACTION: Final rule with comment period.

SUMMARY: In accordance with the name change of the Health Care Financing Administration to the “Centers for Medicare & Medicaid Services,” this technical regulation revises all references to “Health Care Financing Administration” and “HCFA” in chapters I, IV and V of title 42 and subtitle A and chapters II and III of title 45 of the Code of Federal Regulations. This regulation also makes conforming changes to the general definitions sections.

DATES: Effective date: July 31, 2001.

Comment date: Comments will be considered if we receive them at the appropriate address, as provided below, no later than 5 p.m. on October 1, 2001.

ADDRESSES: In commenting, please refer to file code CMS-9010-FC. Because of staff and resource limitations, we cannot accept comments by facsimile (FAX) transmission.

Mail written comments (one original and three copies) to the following address ONLY: Centers for Medicare & Medicaid Services, Department of Health and Human Services, Attention: CMS-9010-FC, P.O. Box 8015, Baltimore, MD 21244-8015.

Please allow sufficient time for mailed comments to be timely received in the event of delivery delays.

If you prefer, you may deliver (by hand or courier) your written comments (one original and three copies) to one of the following addresses: Room 443-G, Hubert H. Humphrey Building, 200 Independence Avenue, SW., Washington, DC 20201, or Room C5-14-03, 7500 Security Boulevard, Baltimore, MD 21244-1850.

Comments mailed to the addresses indicated as appropriate for hand or courier delivery may be delayed and could be considered late.

For information on viewing public comments, see the beginning of the SUPPLEMENTARY INFORMATION section.

FOR FURTHER INFORMATION CONTACT: Margaret Teeters, (410) 786-4678.

SUPPLEMENTARY INFORMATION: Inspection of Public Comments: Comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, call telephone number (410) 786-7197.

I. Background

The Secretary of the Department of Health and Human Services (the Secretary) announced on June 14, 2001, the new name for the Health Care Financing Administration (HCFA): The Centers for Medicare & Medicaid Services (CMS). We are, therefore, revising the references to “Health Care Financing Administration” and “HCFA” in chapters I, IV and, V of title 42 and subtitle A and chapters II and III of title 45 of the Code of Federal Regulations (CFR).

II. Provisions of the Final Rule With Comment Period

In 42 CFR chapters I, IV, and V and in 45 CFR subtitle A and chapters II and III, all references to “Health Care Financing Administration” are revised to read “Centers for Medicare & Medicaid Services.” All references to “HCFA” are revised to read “CMS.” All references to the possessive “Health Care Financing Administration's” are revised to read “Centers for Medicare & Medicaid Services'.” All references to the possessive “HCFA's” are revised to read “CMS's.”

In additioin, we are making the following conforming changes in § 400.200 (General definitions): We are revising the definition of “Administrator,” removing the definition of “HCFA,” and adding the definition of “CMS.” In § 1000.10 (General definitions), we are revising the definition of “Administrator,” removing the definition of “HCFA,” and adding a definition of “CMS.” In § 1003.101 (Definitions), we are removing the definition of “HCFA” and adding the definition of “CMS.”

III. Response to Comments

Because of the large number of items of correspondence we normally receive on Federal Register documents published for comment, we are not able to acknowledge or respond to them individually. We will consider all comments we receive by the date and time specified in the DATES section of this preamble, and, when we proceed with a subsequent document, we will respond to the comments in the preamble to that document.

IV. Waiver of Proposed Rulemaking

We ordinarily publish a notice of proposed rulemaking in the Federal Register to provide a period for public comment before the provisions of a rule such as this take effect. We note that such a notice is not required when applied to rules of agency organization, procedure, or practice. As this rule merely reflects the nomenclature change of the agency, which pertains to the agency organization, no notice is required. We can also waive this procedure if we find good cause that a notice and comment procedure is impracticable, unnecessary, or contrary to the public interest and incorporate a statement of the finding and its reasons in the rule issued.

We believe it is unnecessary to undertake notice and comment rulemaking as the changes made by this regulation are technical in nature and update certain existing regulations without substantive change. There is also no impact on program costs. Therefore, for good cause, we waive prior notice and comment procedures. As indicated previously, we are, however, providing a 60-day comment period for public comment.

V. Collection of Information Requirements

This document does not impose information collection and recordkeeping requirements. Consequently, it need not be reviewed by the Office of Management and Budget under the authority of the Paperwork Reduction Act of 1995.

VI. Regulatory Impact Statement

We have examined the impacts of this rule as required by Executive Order 12866 (Regulatory Planning and Review) and the Regulatory Flexibility Act (RFA), Public Law 96-354. Executive Order 12866 directs agencies to assess the costs and benefits of available regulatory alternatives and, if regulation is necessary, to select regulatory approaches that maximize net benefits (including potential economic, environmental, public health and safety effects, distributive impacts, and equity). A regulatory impact analysis (RIA) must be prepared for rules that constitute significant regulatory action, including rules that have an economic effect of $100 million or more annually (major rules). We have reviewed this rule and have determined that it is not a major rule. Therefore, we are not required to perform an assessment of the costs and savings.

The RFA requires agencies to analyze options for regulatory relief of small businesses in issuing a proposed rule and a final rule that has been preceded by a proposed rule. For purposes of the RFA, small entities include small businesses, nonprofit organizations, and government agencies. Most hospitals and most other providers and suppliers are small entities, either by nonprofit status or by having revenues of $5 million or less annually. Individuals and States are not included in the definition of a small entity. We are not preparing an analysis for the RFA because we have determined, and we certify, that this rule will not have a significant economic impact on a substantial number of small entities.

In addition, section 1102(b) of the Act requires us to prepare a regulatory impact analysis if a proposed rule or a final rule preceded by a proposed rule may have a significant impact on the operations of a substantial number of small rural hospitals. This analysis must conform to the provisions of section 604 of the RFA. For purposes of section 1102(b) of the Act, we define a small rural hospital as a hospital that is located outside of a Metropolitan Statistical Area and has fewer than 100 beds. We are not preparing an analysis for section 1102(b) of the Act because we have determined, and we certify, that this rule will not have a significant impact on the operations of a substantial number of small rural hospitals.

Section 202 of the Unfunded Mandate Reform Act of 1995, Public Law 104-4, also requires that agencies assess anticipated costs and benefits before issuing any proposed rule and a final rule preceded by a proposed rule that may result in expenditure in any one year by State, local, or tribal governments, in the aggregate, or by the private sector, of $110 million or more. This rule will have no consequential effect on the governments mentioned or on the private sector.

Executive Order 13132 establishes certain requirements that an agency must meet when it promulgates a proposed rule (and subsequent final rule) that imposes substantial direct requirement costs on State and local governments, preempts State law, or otherwise has Federalism implications. We have reviewed this final rule with comment period and have determined that it will not have a substantial effect on State or local governments.

We have reviewed this rule and determined that, under the provisions of Public Law 104-121, the Contract with America Act, it is not a major rule.

In accordance with the provisions of Executive Order 12866, this regulation was not reviewed by the Office of Management and Budget.

List of Subjects

42 CFR Part 400

Grant programs-health, Health facilities, Health maintenance organizations (HMOs), Medicaid, Medicare, Reporting and recordkeeping requirements.

42 CFR Part 1000

Fraud, Grant programs-health, Health facilities, Health professions, Medicaid, Medicare.

42 CFR Part 1003

Administrative practice and procedure, Fraud, Grant programs-health, Health facilities, Health professions, Maternal and child health, Medicaid, Medicare, Penalties, Social security.

For the reasons set forth in the preamble, the Department of health and Human Services amends 42 CFR chapters I, IV and V and 45 CFR subtitle A and chapters II and III as set forth below:

1. Revise the heading for chapter IV to read as follows:

Chapter IV—Centers for Medicare & Medicaid Services, Department of Health and Human Services

2. In 42 CFR chapters I, IV, and V and in 45 CFR subtitle A and chapters II and III, revise all references to “Health Care Financing Administration” to read “Centers for Medicare & Medicaid Services”; revise all references to “Health Care Financing Administration's” to read “Centers for Medicare & Medicaid Services’”; revise all references to “HCFA” to read “CMS”; and revise all references to “HCFA's” to read “CMS's”.

PART 400—INTRODUCTION; DEFINITIONS

3. The authority citation for part 400 continues to read as follows:

Authority: Secs. 1102 and 1871 of the Social Security Act (42 U.S.C. 1302 and 1395hh) and 44 U.S.C. Chapter 35.

4. In § 400.200, revise the definition of “Administrator”, remove the definition of “HCFA”, and add a definition of “CMS” in alphabetical order to read as follows:

§ 400.200 General definitions.

* * * * *

Administrator means the Administrator, Centers for Medicare & Medicaid Services (CMS), formerly the Health Care Financing Administration (HCFA).

* * * * *

CMS stands for Centers for Medicare & Medicaid Services, formerly the Health Care Financing Administration (HCFA).

* * * * *

PART 1000—INTRODUCTION; GENERAL DEFINITIONS

5. The authority citation for part 1000 continues to read as follows:

Authority: 42 U.S.C. 1320 and 1395hh.

6. In § 1000.10, revise the definition of “Administrator”, remove the definition of “HCFA”, and add a definition of “CMS” in alphabetical order to read as follows:

§ 1000.10 General definitions.

* * * * *

Administrator means the Administrator, Centers for Medicare & Medicaid Services (CMS), formerly the Health Care Financing Administration (HCFA).

* * * * *

CMS stands for Centers for Medicare & Medicaid Services, formerly the Health Care Financing Administration (HCFA).

* * * * *

PART 1003—CIVIL MONEY PENALTIES, ASSESSMENTS AND EXCLUSIONS

7. The authority citation for part 1003 continues to read as follows:

Authority: 42 U.S.C. 1302, 1320-7, 1320a-7a, 1320b-10, 1395u(j), 1395u(k), 1395cc(j), 1395dd(d)(1), 1395mm, 3395nn(g), 1395ss(d), 1396b(m), 11131(c) and 11137(b)(2).

8. In § 1003.101, remove the definition of “HCFA”, and add a definition of “CMS” in alphabetical order to read as follows:

§ 1003.101 Definitions.

* * * * *

CMS stands for Centers for Medicare & Medicaid Services, formerly the Health Care Financing Administration (HCFA).

* * * * *

(Catalog of Federal Domestic Assistance Program No. 93.778, Medical Assistance Program)
(Catalog of Federal Domestic Assistance Program No. 93.773, Medicare—Hospital Insurance; and Program No. 93.774, Medicare—Supplementary Medical Insurance Program)
Approved: July 25, 2001.
Tommy G. Thompson,
Secretary.

[FR Doc. 01-18959 Filed 7-25-01; 4:41 pm]

BILLING CODE 4120-03-M